FEDERAL ELECTION COMMISSION

[Notice 2012-01]

Filing Dates for the Arizona Special Election in the 8th Congressional District

AGENCY: Federal Election Commission.

ACTION: Notice of filing dates for special election.

SUMMARY: Arizona has scheduled elections on April 17, 2012, and June 12, 2012, to fill the U.S. House seat in the 8th Congressional District vacated by Representative Gabrielle Giffords.

Committees required to file reports in connection with the Special Primary Election on April 17, 2012, shall file a 12-day Pre-Primary Report. Committees required to file reports in connection with both the Special Primary and Special General Election on June 12, 2012, shall file a 12-day Pre-Primary Report, a 12-day Pre-General Report, and a 30-day Post-General Report.

FOR FURTHER INFORMATION CONTACT: Ms. Elizabeth S. Kurland, Information Division, 999 E Street NW., Washington, DC 20463; Telephone: (202) 694-1100; Toll Free (800) 424-9530.

SUPPLEMENTARY INFORMATION:

Principal Campaign Committees

All principal campaign committees of candidates who participate in the Arizona Special Primary and Special General Elections shall file a 12-day Pre-Primary Report on April 5, 2012; a 12-day Pre-General Report on May 31, 2012; and a 30-day Post-General Report on July 12, 2012. (See chart below for the closing date for each report).

All principal campaign committees of candidates participating only in the Special Primary Election shall file a 12-day Pre-Primary Report on April 5, 2012. (See chart below for the closing date for each report).

Unauthorized Committees (PACs and Party Committees)

Political committees filing on a quarterly basis in 2012 are subject to special election reporting if they make previously undisclosed contributions or expenditures in connection with the Arizona Special Primary or Special General Election by the close of books for the applicable report(s). (See chart below for the closing date for each report).

Committees filing monthly that make contributions or expenditures in connection with the Arizona Special Primary or General Elections will continue to file according to the monthly reporting schedule.

Additional disclosure information in connection with the Arizona Special Election may be found on the FEC Web site at http://www.fec.gov/info/report_dates.shtml.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of the lobbyist bundling disclosure threshold during the special election reporting periods (see charts below for closing date of each period). 11 CFR 104.22(a)(5)(v).

The lobbyist bundling disclosure threshold for calendar year 2011 was $16,200. This threshold amount may change in 2012 based upon the annual cost of living adjustment (COLA). Once the adjusted threshold amount becomes available, the Commission will publish it in the Federal Register and post it on its Web site.

Calendar Of Reporting Dates for Arizona Special Election
Report | Close of books ¹ | Reg./cert. & overnight mailing deadline | Filing deadline
COMMITTEES INVOLVED IN ONLY THE SPECIAL PRIMARY (04/17/12) MUST FILE:
Pre-Primary | 03/28/12 | 04/02/12 | 04/05/12
April Quarterly | WAIVED
July Quarterly | 06/30/12 | 07/15/12 | ² 07/15/12
COMMITTEES INVOLVED IN BOTH THE SPECIAL PRIMARY (06/12/12) AND SPECIAL GENERAL (06/12/12) MUST FILE:
Pre-Primary | 03/28/12 | 04/02/12 | 04/05/12
April Quarterly | WAIVED
Pre-General | 05/23/12 | ³ 05/28/12 | 05/31/12
Post-General | 07/02/12 | 07/12/12 | 07/12/12
July Quarterly | WAIVED
October Quarterly | 09/30/12 | 10/15/12 | 10/15/12
COMMITTEES INVOLVED IN ONLY THE SPECIAL GENERAL (06/12/12) MUST FILE:
Pre-General | 05/23/12 | ³ 05/28/12 | 05/31/12
Post-General | 07/02/12 | 07/12/12 | 07/12/12
July Quarterly | — WAIVED —
October Quarterly | 09/30/12 | 10/15/12 | 10/15/12
¹ These dates indicate the end of the reporting period. A reporting period always begins the day after the closing date of the last report filed. If the committee is new and has not previously filed a report, the first report must cover all activity that occurred before the committee registered as a political committee with the Commission up through the close of books for the first report due.
² Notice that this filing deadline falls on a weekend. Filing deadlines are not extended when they fall on nonworking days. Accordingly, reports filed by methods other than Registered, Certified, or Overnight Mail, or electronically, must be received before the Commission's close of business on the last business day before the deadline.
³ Notice that the registered/certified & overnight mailing deadline falls on a federal holiday. The report should be postmarked on or before that date.

Dated: February 14, 2012.
On behalf of the Commission.
Caroline C. Hunter,
Chair, Federal Election Commission.

[FR Doc. 2012-3818 Filed 2-17-12; 8:45 am]

BILLING CODE 6715-01-P